FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue, NW, Washington DC 20551-0001, not later than July 14, 2021.

A. Federal Reserve Bank of St. Louis (Holly A. Rieser, Manager) P.O. Box 442, St. Louis, Missouri 63166-2034. Comments can also be sent electronically to Comments.applications@stls.frb.org:

1. The Combs Family Revocable Alton Bancshares Trust, Springfield, Missouri; Kendall L. Combs and Patricia A. Combs, as co-trustees, both of Hollister, Missouri; Randall G. Combs and Beckie D. Combs, both of Alton, Missouri; Michael and Sandra Combs Revocable Alton Bancshares Trust, Springfield, Missouri; Michael D. Combs and Sandra L Combs, as co-trustees, both of Walnut Shade, Missouri; to retain voting shares of Alton Bancshares, Inc., and thereby indirectly retain voting shares of Alton Bank, both of Alton, Missouri, and First Community Bank of The Ozarks, Branson, Missouri.

B. Federal Reserve Bank of Minneapolis (Chris P. Wangen, Assistant Vice President), 90 Hennepin Avenue, Minneapolis, Minnesota 55480-0291:

1. The Scott C. Johnson and Jan L. Johnson Trust, Scott C. Johnson and Jan L. Johnson, as co-trustees, all of Stillwater, Minnesota; to become members of the Johnson Family Control Group, a group acting in concert, to acquire voting shares of Marine Bancshares, Inc., and thereby indirectly acquire voting shares of Security State Bank of Marine, both of Marine on St. Croix, Minnesota.

Board of Governors of the Federal Reserve System, June 24, 2021.
Michele Taylor Fennell,
Deputy Associate Secretary of the Board.

[FR Doc. 2021-13823 Filed 6-28-21; 8:45 am]

BILLING CODE P